DEPARTMENT OF ENERGY

Federal Energy Regulatory Commission

Combined Notice of Filings #2

Take notice that the Commission received the following electric rate filings:

Docket Numbers: ER10-2011-005; ER10-2016-003; ER10-2208-001; ER10-2209-001.

Applicants: PPL Montana, LLC, PPL EnergyPlus, LLC, PPL Colstrip I, LLC, PPL Colstrip II, LLC.

Description: Triennial Market-Based Rate Update of the PPL Northwest Companies.

Filed Date: 12/31/13.

Accession Number: 20131231-5188.

Comments Due: 5 p.m. ET 3/3/14.

Docket Numbers: ER10-2895-008; ER11-2292-007; ER11-3942-006; ER11-2293-007; ER10-2917-008; ER11-2294-007; ER13-1613-001; ER12-2447-005; ER10-2918-009; ER10-2920-008; ER11-3941-006 ;ER10-2921-008; ER10-2922-008; ER10-2966-008.

Applicants: Bear Swamp Power Company LLC, Brookfield Energy Marketing Inc., Brookfield Energy Marketing LP, Brookfield Energy Marketing US LLC, Brookfield Power Piney & Deep Creek LLC, Brookfield Renewable Energy Marketing US LLC, Brookfield White Pine Hydro LLC, Carr Street Generating Station, L.P., Erie Boulevard Hydropower, L.P., Granite Reliable Power, LLC, Great Lakes Hydro America, LLC, Hawks Nest Hydro LLC, Rumford Falls Hydro LLC.

Description: Updated Market Power Analysis for the Northeast Region of the Brookfield Companies.

Filed Date: 12/30/13.

Accession Number: 20131230-5270.

Comments Due: 5 p.m. ET 2/28/14.

Docket Numbers: ER11-2664-008.

Applicants: Powerex Corp.

Description: Updated Market Power Analysis for the Northwest Region and Notice of Non-Material Change in Status of Powerex Corp.

Filed Date: 12/31/13.

Accession Number: 20131231-5148.

Comments Due: 5 p.m. ET 3/3/14.

Docket Numbers: ER11-4267-007; ER11-4270-007; ER11-4269-008; ER11-4268-007; ER11-113-008; ER10-2682-007; ER12-1680-005; ER11-4694-004.

Applicants: Algonquin Energy Services Inc., Algonquin Power Windsor Locks LLC, Algonquin Tinker Gen Co., Algonquin Northern Maine Gen Co., Sandy Ridge Wind, LLC, Granite State Electric Company, Minonk Wind, LLC,GSG 6, LLC.

Description: Triennial Market Power Update for the Northeast Region of the APUC Entities.

Filed Date: 12/31/13.

Accession Number: 20131231-5147.

Comments Due: 5 p.m. ET 3/3/14.

Docket Numbers: ER13-434-001; ER13-412-001; ER13-457-001; ER13-450-001; ER13-518-001; ER13-321-002; ER13-2106-001; ER13-2109-002; ER10-1410-002; ER13-1403-003.

Applicants: Dominion Energy Marketing, Inc., Dominion Nuclear Connecticut, Inc., Dominion Energy Kewaunee, Inc., Dominion Energy Manchester Street, Inc., Dominion Retail, Inc., Fairless Energy, LLC, NedPower Mount Storm, LLC, Fowler Ridge Wind Farm LLC, Virginia Electric and Power Company, Dominion Bridgeport Fuel Cell, LLC.

Description: Triennial Market Power Update for the Northeast Region of the Dominion Companies.

Filed Date: 12/30/13.

Accession Number: 20131230-5267.

Comments Due: 5 p.m. ET 2/28/14.

Docket Numbers: ER14-350-001.

Applicants: NorthWestern Corporation.

Description: NorthWestern Corporation submits Errata to Order No. 764 Compliance Filing (Montana) to be effective 1/7/2014.

Filed Date: 12/31/13.

Accession Number: 20131231-5002.

Comments Due: 5 p.m. ET 1/21/14.

Docket Numbers: ER14-906-000.

Applicants: GenConn Energy LLC.

Description: GenConn Energy LLC submits GenConn Tariff Amendment to be effective 1/1/2014.

Filed Date: 12/31/13.

Accession Number: 20131231-5086.

Comments Due: 5 p.m. ET 1/21/14.

Docket Numbers: ER14-907-000.

Applicants: Alabama Power Company.

Description: Alabama Power Company submits DEC-SoCo Interconnection Contract Filing to be effective 3/1/2014.

Filed Date: 12/31/13.

Accession Number: 20131231-5108.

Comments Due: 5 p.m. ET 1/21/14.

Docket Numbers: ER14-908-000.

Applicants: Alabama Power Company.

Description: Alabama Power Company submits DEF-SoCo Interconnection Contract Filing to be effective 3/1/2014.

Filed Date: 12/31/13.

Accession Number: 20131231-5109.

Comments Due: 5 p.m. ET 1/21/14.

Docket Numbers: ER14-909-000.

Applicants: PJM Interconnection, L.L.C.

Description: PJM Interconnection, L.L.C. submits 2013 Annual RTEP Allocation Filing to be effective 1/1/2014.

Filed Date: 12/31/13.

Accession Number: 20131231-5112.

Comments Due: 5 p.m. ET 1/21/14.

Docket Numbers: ER14-910-000.

Applicants: Georgia Power Company.

Description: Georgia Power Company submits DEC-SoCo Interconnection Contract Filing to be effective 3/1/2014.

Filed Date: 12/31/13.

Accession Number: 20131231-5114.

Comments Due: 5 p.m. ET 1/21/14.

Docket Numbers: ER14-911-000.

Applicants: Georgia Power Company.

Description: Georgia Power Company submits DEF-SoCo Interconnection Contract Filing to be effective 3/1/2014.

Filed Date: 12/31/13.

Accession Number: 20131231-5117.

Comments Due: 5 p.m. ET 1/21/14.

Docket Numbers: ER14-912-000.

Applicants: Gulf Power Company.

Description: Gulf Power Company submits DEC-SoCo Interconnection Contract Filing to be effective 3/1/2014.

Filed Date: 12/31/13.

Accession Number: 20131231-5118.

Comments Due: 5 p.m. ET 1/21/14.

Docket Numbers: ER14-913-000.

Applicants: Gulf Power Company.

Description: Gulf Power Company submits DEF-SoCo Interconnection Contract Filing to be effective 3/1/2014.

Filed Date: 12/31/13.

Accession Number: 20131231-5119.

Comments Due: 5 p.m. ET 1/21/14.

Docket Numbers: ER14-914-000.

Applicants: Mississippi Power Company.

Description: Mississippi Power Company submits DEC-SoCo Interconnection Contract Filing to be effective 3/1/2014.

Filed Date: 12/31/13.

Accession Number: 20131231-5120.

Comments Due: 5 p.m. ET 1/21/14.

Docket Numbers: ER14-915-000.

Applicants: Mississippi Power Company.

Description: Mississippi Power Company submits DEF-SoCo Interconnection Contract Filing to be effective 3/1/2014.

Filed Date: 12/31/13.

Accession Number: 20131231-5121.

Comments Due: 5 p.m. ET 1/21/14.

Docket Numbers: ER14-916-000.

Applicants: New York State Reliability Council, L.L.C.

Description: Informational filing of Installed Capacity Requirement for the New York Control Area of the New York State Reliability Council, L.L.C.

Filed Date: 12/30/13.

Accession Number: 20131230-5269.

Comments Due: 5 p.m. ET 1/21/14.

Docket Numbers: ER14-917-000.

Applicants: Agua Caliente Solar, LLC.

Description: Agua Caliente Solar, LLC submits Aqua Tariff Amendment to be effective 1/1/2014.

Filed Date: 12/31/13.

Accession Number: 20131231-5152.

Comments Due: 5 p.m. ET 1/21/14.

Docket Numbers: ER14-918-000.

Applicants: PacifiCorp.

Description: PacifiCorp submits OATT Revised Attachment H-1 (Revised Depreciation Rates) to be effective 1/1/2014.

Filed Date: 12/31/13.

Accession Number: 20131231-5176.

Comments Due: 5 p.m. ET 1/21/14.

Docket Numbers: ER14-919-000.

Applicants: PacifiCorp.

Description: PacifiCorp submits BPA AC Intertie Agreement 9th Revised to be effective 3/2/2014.

Filed Date: 12/31/13.

Accession Number: 20131231-5190.

Comments Due: 5 p.m. ET 1/21/14.

Docket Numbers: ER14-920-000.

Applicants: Nevada Power Company.

Description: Nevada Power Company submits Rate Schedule No. 115 RPPA Spring Valley—Cancellation to be effective 1/1/2014.

Filed Date: 12/31/13.

Accession Number: 20131231-5196.

Comments Due: 5 p.m. ET 1/21/14.

Docket Numbers: ER14-921-000.

Applicants: Arizona Public Service Company.

Description: Arizona Public Service Company submits Cancellation of Edison Navajo Transmission Agreement as APS RS No. 267 to be effective 12/30/2013.

Filed Date: 12/31/13.

Accession Number: 20131231-5197.

Comments Due: 5 p.m. ET 1/21/14.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2013.
Nathaniel J. Davis, Sr.,
Deputy Secretary.

[FR Doc. 2014-00095 Filed 1-7-14; 8:45 am]

BILLING CODE 6717-01-P